DEPARTMENT OF COMMERCE

National Oceanic and Atmospheric Administration

RIN 0648-XY43

Fisheries of the Gulf of Mexico and South Atlantic; Southeast Data, Assessment, and Review for Highly Migratory Species Fisheries Sandbar, Dusky, and Blacknose Sharks

AGENCY: National Marine Fisheries Service (NMFS), National Oceanic and Atmospheric Administration (NOAA), Commerce.

ACTION: Notice of Southeast Data, Assessment, and Review (SEDAR 21) workshops for Highly Migratory Species (HMS) of sandbar, dusky, and blacknose sharks assessment webinar.

SUMMARY: The SEDAR 21 assessments of the HMS stocks of sandbar, dusky, and blacknose sharks will consist of a series of workshops and webinars: a Data Workshop, a series of Assessment webinars, and a Review Workshop (see SUPPLEMENTARY INFORMATION).

DATES: The SEDAR 21 Assessment Process I webinars will be held between September 14th and December 8th, 2010. Please see SUPPLEMENTARY INFORMATION for exact dates and times. The established times may be adjusted as necessary to accommodate the timely completion of discussion relevant to the assessment process. Such adjustments may result in the meeting being extended from, or completed prior to the time established by this notice.

ADDRESSES: The meeting will be held via webinar. The webinar is open to members of the public. Those interested in participating should contact Julie A. Neer at SEDAR (see FOR FURTHER INFORMATION CONTACT) to request an invitation providing webinar access information.

FOR FURTHER INFORMATION CONTACT: Julie A Neer, SEDAR Coordinator, 4055 Faber Place, Suite 201, North Charleston, SC 29405; phone (843) 571-4366. Email: Julie.neer@safmc.net

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR is a three-step process including: (1) Data Workshop, (2) Assessment Process utilizing webinars and (3) Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Summary documenting Panel opinions regarding the strengths and weaknesses of the stock assessment and input data. Participants for SEDAR Workshops are appointed by the Gulf of Mexico, South Atlantic, and Caribbean Fishery Management Councils and NOAA Fisheries Southeast Regional Office, HMS Management Division, and Southeast Fisheries Science Center. Participants include data collectors and database managers; stock assessment scientists, biologists, and researchers; constituency representatives including fishermen, environmentalists, and NGO's; International experts; and staff of Councils, Commissions, and state and Federal agencies.

SEDAR 21 Assessment Process I Webinar Series

Using datasets recommended from the Data Workshop, participants will employ assessment models to evaluate stock status, estimate population benchmarks and management criteria, and project future conditions. Participants will recommend the most appropriate methods and configurations for determining stock status and estimating population parameters.

Meeting Schedule
Webinar | Date | Day | Time (Eastern)
1 | September 14, 2010 | Tuesday | 10 a.m. - 2 p.m.
2 | September 16, 2010 | Thursday | 10 a.m. - 2 p.m.
3 | September 30, 2010 | Thursday | 1 p.m. - 5 p.m.
4 | October 5, 2010 | Tuesday | 9:30 a.m. - 12:30 p.m.
5 | October 8, 2010 | Friday | 10 a.m. - 2 p.m.
6 | October 26, 2010 | Tuesday | 10 a.m. - 2 p.m.
7 | October 28, 2010 | Thursday | 10 a.m. - 2 p.m.
8 | November 2, 2010 | Tuesday | 10 a.m. - 2 p.m.
9 | November 4, 2010 | Thursday | 10 a.m. - 2 p.m.
10 | November 8, 2010 | Monday | 10 a.m. - 2 p.m.
11 | November 10, 2010 | Wednesday | 10 a.m. - 2 p.m.
12 | December 8, 2010 | Wednesday | 10 a.m. - 2 p.m.

The established times may be adjusted as necessary to accommodate the timely completion of discussion relevant to the assessment process. Such adjustments may result in the meeting being extended from, or completed prior to the time established by this notice.

Special Accommodations

These meetings are physically accessible to people with disabilities. Requests for sign language interpretation or other auxiliary aids should be directed to the Council office (see ADDRESSES ) at least 5 business days prior to the meeting.

August 23, 2010.
William D. Chappell,
Acting Director, Office of Sustainable Fisheries, National Marine Fisheries Service.

[FR Doc. 2010-21237 Filed 8-25-10; 8:45 am]

BILLING CODE 3510-22-S